DEPARTMENT OF COMMERCE

International Trade Administration

A-122-838

Notice of Initiation and Preliminary Results of Antidumping Duty Changed Circumstances Review: Certain Softwood Lumber Products From Canada

AGENCY: Import Administration, International Trade Administration, Department of Commerce.

SUMMARY: In response to a request from Winton Global Lumber Ltd. (Winton Global), the Department of Commerce is initiating a changed circumstances review of the antidumping duty order on Certain Softwood Lumber Products from Canada and issuing this notice of preliminary results. We have preliminarily determined that Winton Global Lumber Ltd. (Winton Global) is the successor-in-interest to The Pas Lumber Company Ltd. (The Pas).

EFFECTIVE DATE: May 16, 2005.

FOR FURTHER INFORMATION CONTACT: Daniel O'Brien or David Neubacher, AD/CVD Operations, Office 1, Import Administration, International Trade Administration, U.S. Department of Commerce, 14th Street and Constitution Avenue, NW, Washington, DC 20230; telephone: (202) 482-1376 or (202) 482-5823, respectively.

SUPPLEMENTARY INFORMATION:

Background:

On May 22, 2002, the Department issued the antidumping duty order on Certain Softwood Lumber Products from Canada. See Notice of Amended Final Determination of Sales at Less Than Fair Value and Antidumping Duty Order: Certain Softwood Lumber Products From Canada, 67 Fed. Reg. 36067 (May 22, 2002). On April 21, 2005, Winton Global requested that the Department of Commerce (the Department) initiate and conduct an expedited changed circumstances review, in accordance with sections 351.216 and 351.221(c)(3)(ii) (2003) of the Department's regulations, to confirm that Winton Global is the successor-in-interest to The Pas. In its request, Winton Global states that it changed its name to Winton Global from The Pas on January 11, 2005 and provided supporting documentation.

Scope of the Order

For purposes of the order, the products covered are certain softwood lumber products from Canada. For a complete description of the scope of the order, see Notice of Amended Final Results of Antidumping Duty Administrative Review: Certain Softwood Lumber Products From Canada, 70 FR 3358 (January 24, 2005).

Initiation and Preliminary Results

Pursuant to section 751(b)(1) of the Tariff Act of 1930, as amended (the Act), the Department will conduct a changed circumstances review upon receipt of information concerning, or a request from an interested party for a review of, an antidumping duty order which shows changed circumstances sufficient to warrant a review of the order. As indicated in the Background section, we have received information indicating that The Pas has changed its name to Winton Global. This constitutes changed circumstances warranting a review of the order. Therefore, in accordance with section 751(b)(1) of the Act, we are initiating a changed circumstances review based upon the information contained in Winton Global's submissions.

Section 351.221(c)(3)(ii) of the regulations permits the Department to combine the notice of initiation of a changed circumstances review and the notice of preliminary results if the Department concludes that expedited action is warranted. In this instance, because we have on the record the information necessary to make a preliminary finding, we find that expedited action is warranted and have combined the notice of initiation and the notice of preliminary results.

In making successor-in-interest determinations, the Department examines several factors including, but not limited to, changes in: (1) Management; (2) production facilities; (3) supplier relationships; and (4) customer base. See, e.g., Polychloroprene Rubber from Japan: Final Results of Changed Circumstances Review, 67 FR 58 (January 2, 2002) citing, Brass Sheet and Strip from Canada: Notice of Final Results of Antidumping Duty Administrative Review, 57 FR 20460 (May 13, 1992). While no single factor, or combination of factors, will necessarily prove dispositive, the Department will generally consider the new company to be the successor to its predecessor company if the resulting operations are essentially the same as the predecessor company. Id. citing, Industrial Phosphoric Acid from Israel; Final Results of Changed Circumstances Review, 59 FR 6944, 6945 (February 14, 1994). Thus, if the evidence demonstrates that, with respect to the production and sale of the subject merchandise, the new company operates as the same business entity as its predecessor, the Department will assign the new company the cash-deposit rate of its predecessor.

In its April 21, 2005, submission, Winton Global argues that it merely changed its name to Winton Global from The Pas, and that Winton Global is the identical company to The Pas. As such, Winton Global states that the company's personnel, operations, supplier/customer relationships, and facilities have not changed. To support its claims, Winton Global submitted numerous documents, including: (1) The Certificate of Change of Name issued by the Government of British Columbia; (2) Customs Form 5016 notifying U.S. Customs and Border Protection of the name change; (3) a rider to Customs Form 301 certifying that Winton Global Ltd. is the same entity as the entity formerly known as The Pas Lumber Company Ltd.; (4) a copy of the corporate consent resolution of the shareholders of The Pas to change the corporate name; (5) a Corporate Particulars Sheet that indicates no change in shareholding after the name change; (6) a pre-name change advertising flyer that shows The Pas Lumber Company employing the brand name “Winton” for its products; (7) samples of letters to customers advising them that there has been a name change; (8) pre- and post-name change organizational management charts; (9) an insurance appraisal report covering the company's assets dated five days prior to the name change; and (10) vendor and customer lists for the pre- and post-name change period.

Based on the information submitted by Winton Global, we preliminarily find that Winton Global is the successor-in-interest to The Pas. Based on the evidence reviewed, we find that Winton Global operates as the same business entity as The Pas and that the company's senior management, production facilities, supplier relationships, and customers have not changed. Thus, we preliminarily find that Winton Global should receive the same antidumping duty cash-deposit rate (i.e., 1.83 percent) with respect to the subject merchandise as The Pas, its predecessor company.

However, because cash deposits are only estimates of the amount of antidumping duties that will be due, changes in cash deposit rates are not made retroactive. If Winton Global believes that the deposits paid exceed the actual amount of dumping, it is entitled to request an administrative review during the anniversary month of the publication of the order of those entries to determine the proper assessment rate and receive a refund of any excess deposits. See Certain Hot-Rolled Lead and Bismuth Carbon Steel Products From the United Kingdom: Final Results of Changed-Circumstances Antidumping and Countervailing Duty Administrative Reviews, 64 FR 66880 (November 30, 1999). As a result, if these preliminary results are adopted in our final results of this changed circumstances review, we will instruct the Customs Service to suspend shipments of subject merchandise made by Winton Global at The Pas's cash deposit rate (i.e., 1.83 percent). Until that time, the cash deposit rate assigned to Winton Global's entries is the rate in effect at the time of entry (i.e., the “all others” rate).

Public Comment

Any interested party may request a hearing within 20 days of publication of this notice. See 19 CFR 351.310(c). Any hearing, if requested, will be held 44 days after the date of publication of this notice, or the first working day thereafter. Interested parties may submit case briefs and/or written comments not later than 20 days after the date of publication of this notice. Rebuttal briefs and rebuttals to written comments, which must be limited to issues raised in such briefs or comments, may be filed not later than 27 days after the date of publication of this notice. Parties who submit arguments are requested to submit with the argument (1) a statement of the issue, (2) a brief summary of the argument, and (3) a table of authorities.

Consistent with section 351.216(e) of the Department's regulations, we will issue the final results of this changed circumstances review no later than 270 days after the date on which this review was initiated, or within 45 days if all parties agree to our preliminary finding. We are issuing and publishing this finding and notice in accordance with sections 751(b)(1) and 777(i)(1) of the Act and section 351.216 of the Department's regulations.

Dated: May 9, 2005.
Joseph Spetrini,
Acting Assistant Secretary for Import Administration.

[FR Doc. 05-9726 Filed 5-13-05; 8:45 am]

BILLING CODE 3510-DS-S